DEPARTMENT OF HEALTH AND HUMAN SERVICES

Centers for Disease Control and Prevention

[60Day-23-23DP; Docket No. CDC-2023-0018]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a proposed information collection, as required by the Paperwork Reduction Act of 1995. This notice invites comment on a proposed information collection project titled Public Health Law Fellowship Program Information Collection. The goal of this information collection request (ICR) is to obtain a new ICR using nine data collection instruments including two applications, five surveys, one interview guide, and one focus group guide assessing the quality and value of the Public Health Law Program Fellowship (PHL Fellowship).

DATES: CDC must receive written comments on or before May 23, 2023.

ADDRESSES: You may submit comments, identified by Docket No. CDC-2023-0018 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Public Health Law Fellowship Program Information Collection—New—National Center for STLT Public Health Infrastructure and Workforce (NCSPHIW), Centers for Disease Control and Prevention (CDC).

Background and Brief Description

The mission of the Department of Health and Human Services (HHS) is to enhance the health and well-being of all Americans. As part of HHS, the Centers for Disease Control and Prevention (CDC) works to protect America from health, safety, and security threats, both foreign and in the U.S. CDC strives to fulfill this mission, in part, through a competent and capable public health workforce. One mechanism to developing the public health workforce is through training programs like the Public Health Law Fellowship Program (PHL Fellowship).

The mission of the PHL Fellowship is to train and provide experiential learning to current students and early career professionals in public health law and policy. The PHL Fellowship targets current graduate students and law students, as well as recent graduates of graduate and law programs with a demonstrated interest in public health law. It is the goal of this fellowship that following participation in the program, alumni will seek employment within the public health law system (i.e., federal, state, tribal, local, or territorial health agencies, or non-governmental organizations), focusing on health equity and/or emergency response.

This fellowship was created pursuant to American Rescue Plan funding to expand on the Public Health Law Program's intern/extern program. There were no prior efforts to systematically evaluate the intern/extern program necessitating the creation of an evaluation plan for the PHL Fellowship. Evaluation priorities focus on continuously learning about program processes and activities to improve the program's quality and documenting program outcomes to demonstrate impact and inform decision-making about future program direction.

The purpose of this data collection is to inform these evaluation priorities through the collection of information from two key stakeholder groups: (1) 40 host site supervisors; and (2) 70 fellows (n = 110). These data collections will be instrumental in helping CDC staff learn about these important stakeholder perspectives and will yield results that describe quality, impact, and value. Data will also inform program improvements such as refining the host site selection and matching process. Collection of this information moving forward will continue to meet these purposes and allow for longitudinal evaluation of the PHL Fellowship, giving program leaders opportunities to see how this fellowship influences alumni career progression and contributions to public health over time.

CDC requests OMB approval for an estimated 151 annual burden hours. There is no cost to respondents other than their time to participate.

Estimated Annualized Burden Hours
Type of respondents | Form name | Number of respondents | Number of responses per respondent | Average burden per response (in hours) | Total burden (in hours)
Prospective Fellows | PHL Fellow Application | 200 | 1 | 7/60 | 24
Current Fellows | PHL Fellow Welcome Survey | 70 | 1 | 6/60 | 7
Current Fellows | PHL Fellow End-of-Program Survey | 70 | 1 | 7/60 | 8
Fellowship Alumni | PHL Fellowship Alumni Survey | 70 | 1 | 10/60 | 12
Current Fellows | PHL Fellow Focus Group | 30 | 1 | 60/60 | 30
Prospective Host Sites | PHL Fellowship Host Site Application | 50 | 1 | 21/60 | 18
Fellowship Host Site Supervisors | PHL Fellowship Host Site Welcome Survey | 40 | 1 | 5/60 | 4
Fellowship Host Site Supervisors | PHL Fellowship Host Site End-of-Program Survey | 40 | 1 | 12/60 | 8
Fellowship Host Site Supervisors | PHL Fellowship Host Site Supervisor Interview | 40 | 1 | 60/60 | 40
Total |  |  |  |  | 151

Jeffrey M. Zirger,
Lead, Information Collection Review Office, Office of Scientific Integrity, Office of Science, Centers for Disease Control and Prevention.

[FR Doc. 2023-06162 Filed 3-23-23; 8:45 am]

BILLING CODE 4163-18-P